DEPARTMENT OF COMMERCE

National Oceanic and Atmospheric Administration

[RTID 0648-XF355]

Recommendations for Restoring American Seafood Competitiveness; Reopening of Comment Period

AGENCY: National Marine Fisheries Service (NMFS), National Oceanic and Atmospheric Administration (NOAA), Commerce.

ACTION: Notice; reopening of comment period.

SUMMARY: On August 27, 2025, NMFS published a Federal Register request for comment on suggestions to improve fisheries management and science within the requirements of applicable laws, as required in the Executive Order titled “Restoring American Seafood Competitiveness”. The request for comment provided a 45-day comment period, which closed on October 14, 2025. Due to the lapse in appropriations that occurred during the comment period, NMFS has determined that reopening the comment period until December 15, 2025, is appropriate to allow interested parties additional time to prepare and submit comments. Therefore, NMFS is reopening the comment period.

DATES: The comment period is reopened from December 1, 2025 to December 15, 2025. Comments must be received by 11:59 p.m. EDT on December 15, 2025.

ADDRESSES: Responses should be submitted via email to nmfs.seafoodstrategy@noaa.gov. Include “E.O. 14276 Notice Response” in the subject line of the message.

FOR FURTHER INFORMATION CONTACT: Kelly Denit, Director, Office of Sustainable Fisheries, National Marine Fisheries Service, 301-427-8517.

SUPPLEMENTARY INFORMATION: On August 27, 2025, NMFS published in the Federal Register a request for comment from interested parties on suggestions to improve fisheries management and science within the requirements of applicable laws, as required in the Executive Order 14276 titled “Restoring American Seafood Competitiveness.” (90 FR 41818). The request for comment provided a 45-day comment period, which closed on October 14, 2025. Due to the lapse in appropriations that occurred during the comment period, NMFS has determined reopening the comment period until December 15, 2025, is appropriate. This action will allow interested parties additional time to prepare and submit comments. Therefore, NMFS is reopening the comment period for the request for comments as outlined in the DATES section of this notice.

Dated: November 26, 2025.
Samuel D. Rauch III,
Deputy Assistant Administrator for Regulatory Programs, National Marine Fisheries Service.

[FR Doc. 2025-21714 Filed 11-28-25; 8:45 am]

BILLING CODE 3510-22-P